DEPARTMENT OF HEALTH AND HUMAN SERVICES

Substance Abuse and Mental Health Services Administration

Request for comments on the initial revised draft of the Update to the Certified Community Behavioral Health Clinics certification criteria

AGENCY: Substance Abuse and Mental Health Services Administration.

ACTION: Request for Comments on the Initial Revised Draft of the Update to the Certified Community Behavioral Health Clinics Certification Criteria.

SAMHSA is seeking public comment on the initial revised draft of the update to the Certification Criteria for Certified Community Behavioral Health Clinics (CCBHCs). CCBHCs were established under the Section 223 of the Protecting Access to Medicare Act of 2014 (PAMA, Pub. L. 113-93). Section 223 of PAMA requires the establishment of Medicaid demonstration programs to improve community behavioral health services through the development of CCBHCs. CCBHCs are required to provide a comprehensive array of coordinated services to anyone who requests care for mental health or substance use, regardless of ability to pay, place of residence, or age—including developmentally appropriate care for children. PAMA required the Department of Health and Human Services (HHS) to develop criteria for states to use when certifying clinics to participate in their demonstration programs. These criteria include six areas: (1) staffing, (2) availability and accessibility of services, (3) care coordination, (4) scope of services, (5) quality and other reporting, and (6) organizational authority. The current Certification Criteria can be found at: https://www.samhsa.gov/sites/default/files/programs_campaigns/ccbhc-criteria.pdf.

There have been significant developments in the CCBHC program and in the broader mental health and substance use disorder field since the development of the existing Certification Criteria. States and providers now have six years of experience with the CCBHC model and lessons learned related to the implementation of the Certification Criteria. SAMHSA is seeking to make minor revisions to the Criteria to respond to these developments and lessons learned, while still maintaining the overarching requirements for program areas and scope of services outlined in PAMA.

To develop the initial draft of the updated CCBHC Criteria, SAMHSA gathered input in several ways. Public opportunities for input were posted on https://www.samhsa.gov/certified-community-behavioral-health-clinics/ccbhc-criteria-update-announcements. Public meeting dates and virtual locations were disseminated through SAMHSA listservs. On November 17, 2022, SAMHSA held a virtual public listening session open to the public to provide input on the existing CCBHC Criteria. SAMHSA also accepted written input from the public and stakeholders sent to ccbhccriteria@samhsa.hhs.gov by November 21, 2022. In addition to public outreach, SAMHSA also received feedback on potential revisions to the existing CCBHC Criteria from key stakeholders and federal partners.

The initial draft of the updated CCBHC Criteria will be available for public comment before the end of December 2022 and will be open to mid-January 2023. Information on CCBHC Criteria updates and the process to support them is available at: https://www.samhsa.gov/certified-community-behavioral-health-clinics/ccbhc-criteria-update-announcements. The posting of the initial draft of the updated CCBHC Criteria will also be announced through SAMHSA's listserv, CCBHC Training and Technical Assistance grant program, and CCBHC State Technical Assistance contract. SAMHSA requests all comments to the initial draft of the updated CCBHC Criteria be sent to ccbhccriteria@samhsa.hhs.gov.

Authority: Section 223 of the Protecting Access to Medicare Act (2014), as amended.

Contact: Mary Blake, Substance Abuse and Mental Health Services Administration, 5600 Fishers Lane, Rockville, MD 20857, telephone (240) 276-1747; email: mary.blake@samhsa.hhs.gov.

Alicia Broadus,
Public Health Advisor.

[FR Doc. 2022-28028 Filed 12-22-22; 8:45 am]

BILLING CODE 4162-20-P